NUCLEAR REGULATORY COMMISSION

[Docket No. 52-025; NRC-2008-0252]

Southern Nuclear Operating Company, Inc., Vogtle Electric Generating Plant, Unit 3

AGENCY: Nuclear Regulatory Commission.

ACTION: Combined license amendment; issuance and opportunity to request a hearing and petition for leave to intervene.

SUMMARY: The U.S. Nuclear Regulatory Commission (NRC) has issued License Amendment No. 190 to Combined License (COL) NPF-91. The COL amendment involved changes to Vogtle Electric Generating Plant (VEGP), Unit 3, COL Appendix A, Technical Specifications (TS). The amendment involved changes to remove operability requirements prior to initial criticality for (1) the In-containment Refueling Water Storage Tank (IRWST) in Mode 5 (TS 3.5.7) and Mode 6 (TS 3.5.8), and (2) various Protection and Safety Monitoring System and Diverse Actuation System (DAS) automatic and/or manual actuation signals that initiate IRWST, Automatic Depressurization System (ADS) stage 4, and Chemical and Volume Control System (CVS) letdown isolation valves in Modes 5 and 6. These changes allow disabling the IRWST injection and recirculation function during the repair activities on VEGP Unit 3 IRWST injection isolation valve 3-PXS-V123A. Southern Nuclear Operating Company, Inc., (SNC) is licensed to operate VEGP, Unit 3, located in Burke County, Georgia.

DATES: The amendment was issued on February 8, 2023. A request for a hearing or petition for leave to intervene must be filed by May 1, 2023.

ADDRESSES: Please refer to Docket ID NRC-2008-0252 when contacting the NRC about the availability of information for this action. You may obtain publicly available information related to this action by any of the following methods:

• Federal Rulemaking Website: Go to https://www.regulations.gov and search for Docket ID NRC-2008-0252.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: William (Billy) Gleaves, Vogtle Project Office, U.S. Nuclear Regulatory Commission, Washington, DC 20555-0001; telephone: 301-415-5848; email: Bill.Gleaves@nrc.gov.

SUPPLEMENTARY INFORMATION:

I. Introduction

With the requested amendment, SNC sought proposed changes to COL, Appendix A, TSs in an application dated January 31, 2023 (ADAMS Accession No. ML23031A359), titled, “Exigent License Amendment Request: Technical Specification Exceptions for In-containment Refueling Water Storage Tank Operability Prior to Initial Criticality,” designated as license amendment request (LAR) 23-004. Specifically, the changes add notes (and footnotes) to modify the Modes 5 and 6 operability requirements for the IRWST injection and recirculation flow paths, the IRWST and ADS Stage 4 actuation instrumentation and controls, and the CVS automatic isolation function so that they would not be required to be operable in Modes 5 and 6 prior to initial criticality of the core. Specifically, the licensee proposed revising the Applicability of the Limiting Condition for Operation (LCO) for the following LCOs:

(1) LCO 3.3.8, “Engineered Safety Feature Actuation System (ESFAS) Instrumentation,” Table 3.3.8-1:

(a) Function 14, “RCS Wide Range Pressure—Low,”

(b) Function 16, “CMT [Core Makeup Tank] Level—Low 6,” and

(c) Function 18, “IRWST Lower Narrow Range Level—Low 3”;

(2) LCO 3.3.9, “ESFAS Manual Initiation,” Table 3.3.9-1:

(a) Function 7, “ADS Stage 4 Actuation—Manual Initiation,”

(b) Function 12, “In-Containment Refueling Water Storage Tank (IRWST) Injection Line Valve Actuation—Manual Initiation,” and

(c) Function 13, “IRWST Containment Recirculation Valve Actuation—Manual Initiation”;

(3) LCO 3.3.10, “ESFAS Reactor Coolant System (RCS) Hot Leg Level Instrumentation,” Table 3.3.10-1:

(a) Function 1, “Hot Leg Level—Low 4,” and

(b) Function 2, “Hot Leg Level—Low 2”;

(4) LCO 3.3.19, “DAS Manual Controls”:

(a) Function 7, “ADS stage 4 valves,”

(b) Function 8, “IRWST injection squib valves,” and

(c) Function 9, “Containment recirculation valves”;

(5) LCO 3.3.20, “ADS and IRWST Injection Blocking Device,” Table 3.3.20-1:

(a) Function 2, “ADS and IRWST Injection Block Switches for Manual Unblocking”;

(6) LCO 3.5.7, “IRWST—Shutdown, MODE 5”;

(7) LCO 3.5.8, “IRWST—Shutdown, MODE 6”;

(8) LCO 3.3.16, “ESFAS Actuation Logic—Shutdown.”

For items one through five previously listed, the Modes 5 and 6 Applicability for each of the instrument channel actuation functions would be modified by a footnote that states, “For Unit 3 only, not required to be OPERABLE prior to initial criticality.” For items six and seven previously listed, the licensee's proposed changes would modify the Applicability for Modes 5 and 6 for the IRWST by adding a note to LCOs 3.5.7 and 3.5.8 that states, “For Unit 3 only, not required to be OPERABLE prior to initial criticality.” Similarly, for LCO 3.3.16 (item eight), the proposed changes would rename the current “NOTE” to be “NOTES,” number the current note to be “1.” and add a note “2.” that states, “For Unit 3 only, ESF Actuation Function for ADS Stage 4 flow paths, In-containment Refueling Water Storage Tank injection and recirculation flow paths, and CVS letdown isolation valves, not required to be OPERABLE prior to initial criticality.”

The NRC has issued License Amendment No. 190 to COL NPF-91 for VEGP, Unit 3. The NRC letter to SNC, the safety evaluation, and the amendment document are available in ADAMS under Package Accession No. ML23037A082.

II. Notice of Issuance of Amendment to Combined License, Final Determination of No Significant Hazards Consideration and Opportunity for a Hearing (Exigent Circumstances)

By letter dated January 31, 2023, SNC requested that the NRC amend COL NPF-91 for VEGP, Unit 3. The Commission has issued the amendment, which is described in section I of this Federal Register notice.

The Commission has determined for this amendment that the application for the amendment complies with the standards and requirements of the Atomic Energy Act of 1954 (the Act), as amended, and the Commission's rules and regulations. The Commission has made appropriate findings as required by the Act and the Commission's rules and regulations in chapter 1 of title 10 of the Code of Federal Regulations (10 CFR), which are set forth in the license amendment.

There were exigent circumstances associated with the date the amendment was needed, in that the Commission and the licensee had to act quickly, and time did not permit the Commission to publish before issuance its usual notice of consideration of issuance of amendment, proposed no significant hazards consideration (NSHC) determination and opportunity for public comment, and opportunity for a hearing. The Commission did publish a local media notice in The Augusta Chronicle on February 5 and 6, 2023, that provided notice of the licensee's proposed amendment and the proposed NSHC determination and provided a reasonable opportunity for public comment. The Commission was able to consult the State official before issuance. The State of Georgia had no comment.

Under its regulations, the Commission may issue and make an amendment immediately effective, notwithstanding the pendency before it of a request for a hearing from any person, in advance of the holding and completion of any required hearing, where it has determined that NSHC is involved. The Commission has applied the standards of 10 CFR 50.92, “Issuance of amendment,” and has made a final determination that the amendment involves NSHC. The basis for this determination is contained in the NRC documents listed in section I of this notice. Accordingly, the amendment has been issued and made effective as indicated. Because the amendment was issued in exigent circumstances without prior notice of an opportunity for hearing, the Commission is, with this notice, providing an opportunity for hearing on the amendment. A request for a hearing or petition for leave to intervene must be filed by May 1, 2023, as discussed later in this notice.

The Commission has determined that the amendment satisfies the criteria for categorical exclusion in accordance with 10 CFR 51.22. Therefore, pursuant to 10 CFR 51.22(b), no environmental impact statement or environmental assessment needs to be prepared for this amendment.

For further details with respect to this action, including the Commission's final NSHC determination or discussion of exigent circumstances, see the amendment and associated documents such as the Commission's letter and safety evaluation, which are referenced in section I of this notice.

III. Opportunity To Request a Hearing and Petition for Leave To Intervene

Within 60 days after the date of publication of this notice, any persons (petitioner) whose interest may be affected by this action may file a request for a hearing and a petition for leave to intervene (petition) with respect to the action. Petitions shall be filed in accordance with the Commission's “Agency Rules of Practice and Procedure” in 10 CFR part 2. Interested persons should consult a current copy of 10 CFR 2.309. The NRC's regulations are accessible electronically from the NRC Library on the NRC's public website at https://www.nrc.gov/reading-rm/doc-collections/cfr. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and the NRC's public website at https://www.nrc.gov/about-nrc/regulatory/adjudicatory/hearing.html#participate.

IV. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

V. Conclusion

For the reasons set forth in the safety evaluation, the NRC staff issued the amendment that SNC requested on February 8, 2023, as part of a package to SNC.

Dated: February 24, 2023.
For the Nuclear Regulatory Commission.
Victor E. Hall,
Director, Vogtle Project Office, Office of Nuclear Reactor Regulation.

[FR Doc. 2023-04232 Filed 3-1-23; 8:45 am]

BILLING CODE 7590-01-P